DEPARTMENT OF AGRICULTURE

Food Safety and Inspection Service

[Docket No. FSIS-2015-0028]

National Advisory Committee on Microbiological Criteria for Foods

AGENCY: Food Safety and Inspection Service, USDA.

ACTION: Notice of public meeting.

SUMMARY: This notice is announcing a meeting of the National Advisory Committee on Microbiological Criteria for Foods (NACMCF), that will be held on June 10, 2015, by audio conference call that is open to the public. The Committee will continue its discussions, from its November 17, 2014 meeting, on microbiological criteria as indicators of poor process control or insanitary conditions. After further discussion, the committee plans to adopt its final recommendations.

DATES: Wednesday, June 10, 2015.

Time: 1:00 to 4:00 p.m. E.S.T.

Call-in Phone Number: The June 10, 2015, meeting will be held by telephone. The call-in number for the audio conference will be provided after registration is completed. Please contact Karen Thomas-Sharp at the address, telephone or fax numbers below to register for the meeting: USDA, FSIS, Office of Public Health Science, Stop 3777, Patriots Plaza 3, Floor 9, 1400 Independence Avenue SW., Washington, DC 20250, or by phone (202) 690-6620, fax (202) 690-6334, or email: Karen.thomas-sharp@fsis.usda.gov.

All documents related to the full Committee meeting will be available for public inspection in the FSIS Docket Room, USDA, at Patriots Plaza 3, 355 E. Street SW., Room 8-164, Washington, DC 20250 between 8:30 a.m. and 4:30 p.m., Monday through Friday, as soon as they become available. The NACMCF documents also will be available on the Internet at http://www.fsis.usda.gov/wps/portal/fsis/topics/regulations/federal-register/federal-register-notices.

FSIS will finalize the agenda on or before the date of the meeting and will post it on the FSIS Web page at http://www.fsis.usda.gov/wps/portal/fsis/newsroom/meetings. Please note that the meeting time schedule is subject to change due to the time required for Committee discussions; thus, sessions could end earlier or later than anticipated. Please plan accordingly if you would like to attend or participate in a public comment period.

The official meeting minutes of the June 10, 2015 full Committee meeting, when they become available, will be located in the FSIS Docket Room at the above address and also will be posted on http://www.fsis.usda.gov/wps/portal/fsis/topics/data-collection-and-reports/nacmcf/meetings/nacmcf-meetings.

Further Information for Participants: Persons interested in registering for the audio conference, making a presentation, submitting technical papers, or providing comments at the June 10, 2015 plenary session should contact Karen Thomas-Sharp, phone (202) 690-6620, fax (202) 690-6334, email: Karen.thomas-sharp@fsis.usda.gov or at the mailing address above. Persons requiring special accommodations for this phone conference (voice and TTY) should notify Ms. Thomas-Sharp by June 5, 2015.

SUPPLEMENTARY INFORMATION:

Background

The NACMCF was established in 1988 in response to a recommendation of the National Academy of Sciences for an interagency approach to microbiological criteria for foods and in response to a recommendation of the U.S. House of Representatives Committee on Appropriations, as expressed in the Rural Development, Agriculture, and Related Agencies Appropriation Bill for fiscal year 1988. The charter for the NACMCF is available on the FSIS Web page at http://www.fsis.usda.gov/wps/portal/fsis/topics/data-collection-and-reports/nacmcf/committee-charter/charter.

The NACMCF provides scientific advice and recommendations to the Secretary of Agriculture and the Secretary of Health and Human Services on issues related to the safety and wholesomeness of the U.S. food supply, including development of microbiological criteria, as well as the review and evaluation of epidemiological and risk assessment data and methodologies for assessing microbiological hazards in foods. The Committee also provides scientific advice and recommendations to the Food and Drug Administration, the Centers for Disease Control and Prevention, and the Departments of Commerce and Defense.

Mr. Brian Ronholm, Deputy Under Secretary for Food Safety, USDA, is the Committee Chair; Dr. Susan T. Mayne, Director of the Food and Drug Administration's Center for Food Safety and Applied Nutrition (CFSAN), is the Vice-Chair; and Dr. James Rogers, FSIS, is the Executive Secretary.

Documents Reviewed by NACMCF

FSIS will make all materials reviewed and considered by NACMCF regarding its deliberations available to the public. Generally, these materials will be made available as soon as possible after the full Committee meeting. Further, FSIS intends to make these materials available in electronic format on the FSIS Web page (www.fsis.usda.gov), as well as in hard copy format in the FSIS Docket Room. Often, an attempt is made to make the materials available at the start of the full Committee meeting when sufficient time is allowed in advance to do so.

Disclaimer: NACMCF documents and comments posted on the FSIS Web site are electronic conversions from a variety of source formats. In some cases, document conversion may result in character translation or formatting errors. The original document is the official, legal copy.

In order to meet the electronic and information technology accessibility standards in Section 508 of the Rehabilitation Act, NACMCF may add alternate text descriptors for non-text elements (graphs, charts, tables, multimedia, etc.). These modifications only affect the Internet copies of the documents.

Copyrighted documents will not be posted on the FSIS Web site, but will be available for inspection in the FSIS Docket Room.

Additional Public Notification

FSIS will announce this notice online through the FSIS Web page located at http://www.fsis.usda.gov/wps/portal/fsis/topics/regulations/federal-register/federal-register-notices.

FSIS also will make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update also is available on the FSIS Web page. In addition, FSIS offers an electronic mail subscription service, which provides automatic and customized access to selected food safety news and information. This service is available at http://www.fsis.usda.gov/wps/portal/fsis/programs-and-services/email-subscription-service. Options range from recalls to export information to regulations, directives, and notices. Customers can add or delete subscriptions themselves and have the option to password protect their accounts.

USDA Nondiscrimination Statement

USDA prohibits discrimination in all of its programs and activities on the basis of race, color, national origin, gender, religion, age, disability, political beliefs, sexual orientation, and marital or family status (Not all prohibited bases apply to all programs).

Persons with disabilities who require alternative means for communication of program information (Braille, large print, and audiotape) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC, on: May 15, 2015.
Alfred V. Almanza,
Acting Administrator.

[FR Doc. 2015-12192 Filed 5-19-15; 8:45 am]

BILLING CODE 3410-DM-P